DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of August, 2001.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,594; Spectrum Control, Inc., Signal Products Group, Elizabethtown, PA

TA-W-39,429A; Mele Manufacturing Co., Inc., Farrington packaging, Utica, NY

TA-W-39,296; P.E. Technologies, Inc., Cleveland, OH

TA-W-38,975; Fox River Paper Co., Vicksburg, MI

In the following cases, the investigation revealed that the criteria for eligibility have not been met for the reasons specified.

Increased imports did not contribute importantly to worker separations at the firm.

TA-W-39,785; GKN Sinter Metals, Inc., Plant II, St. Marys, PA

TA-W-39,650; Micron Electronics, Inc., Micronpc.Comm, Nampa, ID

TA-W-39,416 & TA-W-39,416C; Pillowtex Corp., Fieldcrest Cannon

Plant #4, Kannapolis, NC and Pillowtex Corp., Fieldcrest Cannon—Eagle & Phenix, Columbus, GA

TA-W-39,864; International Wire Group, Insulated Wire Div., Elkmont Fine Wire, Elkmont, AL

TA-W-39,742; Republic Technologies International, Johnstown, PA

The workers firm does not produce an article as required for certification under Section 222 of the Trade Act of 1974.

TA-W-39,651; Ditto Apparel of California, Inc., Bastrop, LA

TA-W-39,252; Teck Resources, Inc., A Subsidiary of Teck, Corp., Reno, NV

TA-W-39,284; London Fog Industries, New York, NY

TA-W-39,245; Isaae Hazen & Co., Secaucus, NJ

TA-W-39,283; Ingram Micro, Jonestown, PA

TA-W-39,707; Pillowtex Corp., Phenix City, AL

TA-W-39,447; Quantum Corp., U.S. Configuration Center, Milpitas, CA

Affirmative Determinations for Worker Adjustment Assistance

The following certifications have been issued; the date following the company name and location of each determination references the impact date for all workers of such determination.

TA-W-38,644; International Paper Co., Courtland, AL: January 18, 2000

TA-W-39,390; J and A Manufacturing Co., Scranton, PA: May 21, 2000

TA-W-39,542; Calumet Lubricants Co., LP, Rouseville, PA: June 18, 2000

TA-W-39,200; Corning Frequency Control, Carlisle, PA: April 20, 2000

TA-W-38,826; Giddings and Lewis, Fond du Lac, WI: February 22, 2000

TA-W-39,429 and TA-W-39,429B; Mele Manufacturing Co., Inc., Mele Jewel Box, Utica, NY and Mele Manufacturing Co., Inc., Blue Star Leather, Utica, NY: May 27, 2000

TA-W-39,416A and TA-W-39,416B; Pillowtex Corp., Rocky Mount Plant, Rocky Mount, NC and Pillowtex Corp., Fieldcrest Cannon Plant 1, Kannapolis, NC: June 11, 2000

TA-W-39,168; Tamfelt, Inc., Canton, MA: April 12, 2000

TA-W-39,756; Kimberly Clark, Conway, AR: July 24, 2000

TA-W-39,596; Quilt Gallery, Easley, SC: June 20, 2000

TA-W-39,552; HS Industries, Independence, WI: June 8, 2000

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of August, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases in ports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04948, A, B, C; Pillowtex Corp., Fieldcrest Cannon—Plant 4, Kannapolis, NC, Rockey Mount Plant, Rock Mount, NC Fieldcrest Cannon—Plant 1, Kannapolis, NC and Fieldcrest Cannon—Eagle & Phenix, Columbus, GA

NAFTA-TAA-05152; GKN Sinter Metals, Inc., Plant II, St. Marys, PA

NAFTA-TAA-04926; C and J Specialties, Inc., Dallas, NC

NAFTA-TAA-05045; Micron Electronics, Inc., Micronpc.com, Nampa, ID

NAFTA-TAA-04715; Fox River Paper Co., Vicksburg, MI

NAFTA-TAA-05046; Harvard Industries, IN., Pottstown Precision Casting, Stowe, PA

NAFTA-TAA-05121; Thermo King Corp., Div. Of Ingersoll Rand, Bloomington, MN

NAFTA-TAA-04629; Kolb-Lena Bresse Bleu, Watertown, WI

Affirmative Determination NAFTA-TAA

NAFTA-TAA-05054; Spectrum Control, Inc., Signal Products Group, Elizabethtown, PA: June 21, 2000

NAFTA-TAA-04881; Honeywell International, Inc., Consumer Products Group, Automotive Div., Nevada, MO: April 25, 2000

NAFTA-TAA-05099 & A; Merry Maid Novelties, Bangor, PA and Tatamy, PA: July 13, 2000

NAFTA-TAA-05090; Square D Company, Schneider Electric, Huntington, IN: July 11, 2000

NAFTA-TAA-05031; Cordis Corp., A Johnson and Johnson Co., Miami Lakes, FL: May 29, 2000

NAFTA-TAA-04877; Corning Frequency Control, Carlisle, PA: May 14, 2000

NAFTA-TAA-05131; Lincoln Automotive Company, Jonesboro, AR: July 15, 2001

NAFTA-TAA-05125; Sola Optical USA, Inc., Eldon, MO: July 20, 2000

NAFTA-TAA-04830; Centis, Inc., Brea, CA: April 24, 2000

I hereby certify that the aforementioned determinations were issued during the month of August, 2001. Copies of these determinations are available for inspection in Room C-5311, U.S. Department of Labor, 200 Constitution Avenue, NW., Washington, DC 20210 during normal business hours or will be mailed to persons who write to the above address.

Dated: August 17, 2001.
Edward A. Tomchick,
Director, Division of Trade Adjustment Assistance.

[FR Doc. 01-21314 Filed 8-22-01; 8:45 am]

BILLING CODE 4510-30-M